DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995, this notice announces that the Information Collection abstracted below has been forwarded to the Office of Management and Budget (OMB) for review and approval. The nature of the information collection is described as well as its expected burden. The Federal Register Notice with a 60-day comment period soliciting comments on the following collection of information was published on April 23, 2007. No comments were received.

DATES: Comments must be submitted on or before August 6, 2007.

FOR FURTHER INFORMATION CONTACT: Linden Houston, Program Manager, Maritime Administration, 1200 New Jersey Avenue, SE., Washington, DC 20590. Telephone: (202) 366-4839, or e-mail: Linden.Houston@dot.gov. Copies of this collection also can be obtained from that office.

SUPPLEMENTARY INFORMATION: Maritime Administration (MARAD).

Title: Application for Conveyance of Port Facility Property.

OMB Control No.: 2133-0524.

Type of Request: Extension of currently approved collection.

Affected Public: Eligible port entities.

Forms: MA-1047.

Abstract: Public Law 103-160, which is included in 40 U.S.C. 554 authorizes the Department of Transportation to convey to public entities surplus Federal property needed for the development or operation of a port facility. The information collection will allow MARAD to approve the conveyance of property and administer the port facility conveyance program. The collection is necessary for MARAD to determine whether the community is committed to the redevelopment/reuse plan; the redevelopment/reuse plan is viable and is in the best interest of the public; and the property is being used in accordance with the terms of the conveyance and applicable statutes and regulations.

Expiration Date of Approval: Three years from date of approval by the Office of Management and Budget.

Summary of Collection of Information: Public Law 103-160, which is included in 40 U.S.C. 554 authorizes the Department of Transportation to convey to public entities surplus Federal property needed for the development or operation of a port facility. The information collection will allow MARAD to approve the conveyance of property and administer the port facility conveyance program.

Annual Estimated Burden Hours: 1280 hours.

Addressee: Send comments to the Office of Information and Regulatory Affairs, Office of Management and Budget, 725 17th Street, NW., Washington, DC 20503, Attention: MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: June 29, 2007.
Daron T. Threet,
Secretary, Maritime Administration.

[FR Doc. E7-13015 Filed 7-3-07; 8:45 am]

BILLING CODE 4910-81-P